DEPARTMENT OF TRANSPORTATION

Pipeline and Hazardous Materials Safety Administration

Hazardous Materials: Notice of Actions on Special Permits

AGENCY: Pipeline and Hazardous Materials Safety Administration (PHMSA), Department of Transportation.

ACTION: Notice of actions on special permit applications.

SUMMARY: In accordance with the procedures governing the application for, and the processing of, special permits from the Department of Transportation's Hazardous Material Regulations, notice is hereby given that the Office of Hazardous Materials Safety has received the application described herein.

DATES: Comments must be received on or before May 7, 2025.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on April 2, 2025.
Donald P. Burger,
Chief, General Approvals and Permits Branch.

Application No. | Applicant | Regulation(s) affected | Nature of the Special Permits thereof
Special Permits Data—Granted
10427-M | Astrotech Space Operations LLC | 173.61(a), 173.301(g), 173.302(a), 173.336 | To modify the special permit to authorize an additional hazardous material and an additional packaging.
11911-M | Transfer Flow, Inc | 177.834(h), 178.700(c)(1) | To modify paragraph 7.c.(2)(iii) of the special permit to authorize the pump hose and nozzle to be secured to the tank or truck bed.
12303-M | Halliburton Energy Services, Inc | 173.201, 173.301(f), 173.302a, 173.304a | To modify the special permit to include the updated correct minimum wall thickness of 0.246 inch for the oil well sampling cylinder specified in paragraph 7.a.(2).
14493-M | Boyd Lancaster, Inc | 172.101(j), 173.301(f), 173.302a(a)(1), 173.304a(a)(2), 173.306(e) | To modify the special permit to authorize additional hazardous materials in non-DOT specification containers.
14832-M | Trinity Industries, Inc | 172.203(a), 173.31(e)(2)(ii), 179.100-12(c) | To modify the special permit to update the stencil specifications and to remove the 20-year life limitation.
15797-M | Joyson Safety Systems Acquisition LLC | 173.56(b) | To modify paragraph 7.c.(i) to include a testing laboratory as an alternative to a disposal facility for the one-time, one-way transportation of airbag inflators, airbag modules or seat belt tensioners that have not been examined, classed, and approved.
15866-M | Consumer Product Safety Commission, U.S | 173.220(d), 173.185(f)(2), 173.185(f)(3), 173.185(f)(4) | To modify the special permit to authorize UN3171, battery-powered vehicle, UN3481, lithium ion batteries packed with equipment, and UN3091, lithium metal batteries packed with equipment.
15980-M | Windward Aviation Inc | 172.200, 172.300, 172.400, 173.1, 173.27, 175.33, 175.75 | To modify the special permit to authorize FAA Part 135 operations and additional hazardous materials.
16485-M | Entegris, Inc | 180.213(b) | To modify the special permit to authorize the low-stress peen requalification markings on the upper sidewall of the cylinder.
16518-M | Midwest Helicopter Airways | 172.301(c), 175.33 | To modify the special permit to authorize, UN3161, Refrigerant R-454B to be transported under the terms of the special permit.
20418-M | Hanwha Cimarron LLC | 173.302(a), 173.304 | To modify the special permit to authorize an additional periodic retest method.
21018-M | Packaging and Crating Technologies, LLC | 173.185(c), 173.185(f) | To modify the special permit to authorize additional packagings.
21136-M | Hanwha Cimarron LLC | 173.302(a)(1) | To modify the special permit to authorize an additional periodic test method.
21191-M | Joyson Safety Systems Acquisition LLC | 172.203(a), 172.301(c), 173.166(e)(6) | To modify the special permit to authorize additional recalled safety devices.
21307-M | Packaging and Crating Technologies, LLC | 172.200, 172.300, 172.400, 172.500, 172.600, 172.700(a), 172.102(c)(1) | To modify the special permit to authorize a higher Watt-hour rating battery.
21491-M | Hanwha Cimarron LLC | 173.302(a) | To modify the special permit to authorize an additional periodic test method.
21667-M | Hanwha Cimarron LLC | 173.302(a) | To modify the special permit to authorize an additional periodic test method.
21677-M | Unipart North America Limited | 172.101(j) | To modify the special permit to authorize an additional lithium ion battery.
21708-M | Loft Orbital Solutions Inc | 171.23(a)(2)(iv), 172.101(j)(1), 173.301(f), 173.302a, 173.304a, 173.27(b)(2) | To modify the special permit to authorize transportation aboard aircraft and cargo vessel.
21757-N | BNSF Railway Company | 174.85 | To authorize the transportation in commerce of certain hazardous materials via rail with a reduced number of buffer cars.
21772-M | EnerVenue, Inc | 172.300, 172.400, 173.302(a) | To modify the proper shipping name of the hazardous material in paragraph 6 of the special permit from UN1049 to UN3537.
21789-N | Interco Trading Inc | 173.185(b), 173.185(f) | To authorize the transportation for recycling in commerce of lithium ion cells which were burned in an accident and deactivated prior to transportation.
21807-N | Lippert Components, Inc | 177.834(h), 178.705(d) | To authorize the manufacture, mark, sale, and use of non-specification IBCs having a capacity less than 119 gallons which may be discharged prior to unloading.
21838-N | Blue Origin Florida, LLC | 173.302(a)(2) | To authorize the transportation in commerce of non-DOT specification cylinders that are not equipped with pressure relief devices, incorporated into the propellant system of a satellite.
21854-N | Electronic Fluorocarbons, LLC | 173.304(b) | To authorize the transportation in commerce of certain liquified gases in DOT 3AA specification cylinders where the liquid portion completely fills the package.
21857-N | Trinity Industries, Inc | 172.203(a), 173.319, 179.401-1 | To authorize the manufacture, mark, sale, and use of DOT specification 113A90W tank cars for the transportation of certain non-flammable cryogenic liquids.
21864-N | Arrowhead Industrial Services (U.S.A.), Inc | 172.203(a), 172.301(c), 173.301(a), 173.301(f)(1) | To authorize the transportation in commerce of certain pressure vessels containing Division 2.1 or 2.2 materials for the purpose of performing certain pressure relief device tests or qualification tests that cannot be performed at their current location.
21881-N | Airbus Defence and Space GmbH | 172.400, 172.300, 172.101(j)(1), 173.301(f), 173.302a(a)(1) | To authorize the transportation in commerce of the hazardous materials identified in paragraph 6 installed in spacecraft or components of spacecraft.
21886-N | Weilert Enterprises, Inc | 172.102(c), 173.159a(c)(2), 173.185(c)(2), 173.185(c)(4)(iv) | To authorize the manufacture, mark, sale, and use of packaging used to transport mixed chemistries of end-of-life batteries for disposal or recycling
21896-N | Caterpillar Inc | 172.101(j), 173.185(a)(1) | To authorize the transportation in commerce of prototype lithium batteries exceeding 35 kg via cargo-only aircraft.
21899-N | Amtrol Inc | 173.302(a)(1), 173.306(g)(1) | To authorize the transportation in commerce of non-DOT specification fully wrapped fiber-reinforced plastic composite pre-pressurized water tanks containing certain non-flammable, non-toxic gases.
21901-N | Versum Materials US, LLC | 173.301(c), 173.301(f) | To authorize the transportation in commerce of DOT-3AA cylinders containing the hazardous material in paragraph 6. and without pressure relief devices.
21946-N | DGM Italia Srl | 173.27(b)(2), 173.185(e)(6), 173.185(e)(7) | To authorize the transportation in commerce of spacecraft containing low production lithium batteries exceeding 35 kg as well as non-specification pressure vessels used as heat pipes.
21952-N | Environmental Protection Agency Region 9 | 171-180 | To authorize the transportation in commerce of hazardous materials in support of recovery and relief operations from and within Southern California disaster areas (Eaton and Palisades Fires) under conditions that may not meet the Hazardous Materials Regulations.
21954-N | Trailer Bridge, Inc | 171.2(l), 172.400(a)(5), 172.301(a)(1)(ii), 173.25(a)(2) | To authorize the one-time, one-way transportation of two containers packed with ammonium nitrate back to the shipper.
21961-N | U.S. Army Corps of Engineers | 171-180 | To authorize the transportation in commerce of hazardous materials in support of recovery and relief operations from and within Southern California disaster areas (Eaton and Palisades Fires) under conditions that may not meet the Hazardous Materials Regulations.
21970-N | Call2Recycle, Inc | 173.185(f) | To authorize the one-way transportation of damaged lithium ion batteries for disposal and or recycling in UN specification packagings containing more than one battery module per package.
21971-N | H55 SA | 172.101(j) | To authorize the transportation in commerce of lithium batteries exceeding 35 kg via cargo-only aircraft.
21972-N | Crowley Liner Services, Inc | 171.2(l), 172.400(a)(5), 172.301(a)(1)(ii), 173.25(a)(2) | To authorize the one-time, one-way transportation of two containers packed with ammonium nitrate back to the shipper.
Special Permits Data—Granted
14940-M | Crown Cork & Seal USA, Inc | 173.306(a)(3), 178.33-1(a), 178.33-2, 178.33-3(a), 178.33-4(a), 178.33-5(a), 178.33-6, 178.33-7, 178.33-8, 178.33-9, 178.33a-1, 178.33a-2, 178.33a-3, 178.33a-4, 178.33a-5, 178.33a-6, 178.33a-7, 178.33a-8, 178.33a-9 | To modify the special permit to authorize cargo-only aircraft as a mode of transportation.
20835-M | Nouryon Functional Chemicals LLC | 178.337-8(a)(3), 178.337-8(a)(4), 178.337-10(f), 178.337-8(a)(5)(i) | To modify the special permit to provide relief from 49 CFR 178.337-8(a)(5)(i) and 178.337-10(f).
21741-N | Atlas Chemical Corp | 173.56(b), 173.184 | To authorize the transportation in commerce of the Division 1.4S articles specified herein as limited quantities.
21893-N | Bhiwadi Cylinders Private Limited | 173.304(a) | To authorize the transportation in commerce of Class 2 gases in DOT 2Q Variation 2 inner receptacles.
Special Permits Data—Withdrawn
21875-N | Sig Sauer Inc | 172.101(i)(3), 172.300, 173.62 | To authorize the transportation in commerce of small arms ammunition in bulk packaging.
21934-N | Chemring Energetic Devices, Inc | 172.320(a), 173.54(a), 173.54(j), 173.56(b), 173.57(a), 173.58, 173.60 | To renew party status to DOT-SP 8451 as a shipper.
21937-N | Apex Water and Process Inc | 172.203(a), 172.302(c), 177.834(h) | To authorize the discharge of liquid hazardous materials from certain UN Intermediate Bulk Containers (IBCs) and DOT Specification 57 portable tanks without removing them from the vehicle on which they are transported.
21942-N | AESC US, LLC | 172.101(j) | To authorize the transportation in commerce of lithium-ion batteries weighing more than 35 kg by cargo-only aircraft.
21945-N | National Air Cargo Group, Inc | 172.204(c)(3), 172.101(j)(1), 173.27(b)(2), 175.30(a)(1) | To authorize the transportation in commerce of certain Division 2.1 materials which are forbidden for transportation by cargo-only aircraft.
21957-N | US Contract Trucking, Inc | 172.203(a), 172.301(c), 177.834(h) | To authorize the discharge of certain Class 3, Division 6.1 and Class 8 and Class 9 liquids from a UN Specification drum without removing the drum from the vehicle on which it is transported.
21958-N | US Contract Trucking, Inc | 172.203(a), 172.302(c), 177.834(h) | To authorize the discharge of certain Class 3, Division 6.1 and Class 8 and Class 9 liquids from a DOT Specification intermediate bulk containers (IBC's) without removing them from the vehicle on which it is transported.
21976-N | Nouryon Functional Chemicals LLC | 172.203(a), 172.302(c), 173.31(d)(1)(ii) | To authorize the transportation in commerce of tank cars in which the manway cover gasket has been subjected to the leak detection method(s) in lieu of a visual inspection.

[FR Doc. 2025-05947 Filed 4-4-25; 8:45 am]

BILLING CODE 4910-60-P